DEFENSE NUCLEAR FACILITIES SAFETY BOARD

Sunshine Act Notice

AGENCY: Defense Nuclear Facilities Safety Board.

ACTION: Notification of Change in Meeting Location.

SUMMARY: Pursuant to the provisions of the “Government in the Sunshine Act” (5 U.S.C. 552b), notice is hereby given of the Defense Nuclear Facilities Safety Board's public hearing and meeting.

FEDERAL REGISTER CITATION OF PREVIOUS ANNOUNCEMENT: 75 FR 43495 (July 26, 2010).

PREVIOUSLY ANNOUNCED MEETING LOCATION: Room 133, Richland Federal Building, 825 Jadwin Avenue, Richland, Washington 99352.

CHANGES IN THE MEETING: The public meeting will now be held at Three Rivers Convention Center, 7016 W. Grandridge Boulevard, Kennewick, Washington 99336, (509) 737-3700.

TIME AND DATE OF MEETING: Session I: 9 a.m.-1 p.m., October 7, 2010; Session II: 5 p.m.-9 p.m., October 7, 2010; Session III: 8 a.m.-12 p.m., October 8, 2010.

CONTACT PERSON FOR MORE INFORMATION: Brian Grosner, General Manager, Defense Nuclear Facilities Safety Board, 625 Indiana Avenue, NW., Suite 700, Washington, DC 20004-2901, (800) 788-4016. This is a toll-free number.

Dated: September 13, 2010.
Peter S. Winokur,
Chairman.

[FR Doc. 2010-23158 Filed 9-13-10; 4:15 pm]

BILLING CODE 3670-01-P